UNITED STATES POSTAL SERVICE

Board of Governors; Sunshine Act Meeting

TIMES AND DATES: 12:30 p.m., Monday, December 3, 2001; 8:30 a.m., Tuesday, December 4, 2001; and 10:00 a.m., Tuesday, December 4, 2001.

PLACE: Washington, D.C., at U.S. Postal Service Headquarters, 475 L'Enfant Plaza, S.W., in the Benjamin Franklin Room.

STATUS: December 3 (Closed); December 4—8:30 a.m. (Open); 10:00 a.m. (Closed).

MATTERS TO BE CONSIDERED:

Monday, December 3—12:30 p.m. (Closed)

1. Audit and Finance Committee Report and Review of Year-End Financial Statements.

2. Notes to the Financial Statements.

3. Financial Performance.

4. Pay for Performance Program.

5. Strategic Planning.

6. Personnel Matters and Compensation Issues.

Tuesday, December 4—8:30 a.m. (Open)

1. Minutes of the Previous Meetings, November 5-6, and November 13 and 15, 2001.

2. Remarks of the Postmaster General/Chief Executive Officer.

3. Fiscal Year 2001 Audited Financial Statements.

4. Final Fiscal Year 2003 Appropriations Request.

5. Updates on Time and Attendance Collection System (TACS).

6. Tentative Agenda for the January 7-8, 2002, meeting in Washington, D.C.

Tuesday, December 4—10:00 a.m. (Closed)

1. Continuation of Monday's Closed Agenda.

CONTACT PERSON FOR MORE INFORMATION: David G. Hunter, Secretary of the Board, U.S. Postal Service, 475 L'Enfant Plaza, S.W., Washington D.C. 20260-1000. Telephone (202) 268-4800.

David G. Hunter,
Secretary.

[FR Doc. 01-29500 Filed 11-21-01; 2:23 pm]

BILLING CODE 7710-12-M